DEPARTMENT OF HEALTH AND HUMAN SERVICES

Administration for Children and Families

Tribal Consultation; Notice of Meeting

AGENCY: Administration for Children and Families, Department of Health and Human Services.

ACTION: Notice of Tribal Consultation.

SUMMARY: The Department of Health and Human Services (HHS), Administration for Children and Families (ACF) will host a Tribal Consultation to consult on ACF programs and tribal priorities.

DATES: March 5-6, 2012.

ADDRESSES: Renaissance Hotel, 999 9th Street NW., Washington, DC 20001.

FOR FURTHER INFORMATION CONTACT: Lillian A. Sparks, Commissioner, Administration for Native Americans at (202) 401-5590, by email at Lillian.sparks@acf.hhs.gov, or by mail at 370 L'Enfant Promenade SW., 2 West, Washington, DC 20447.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, through complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of Federal policies that have tribal implications, and are responsible for strengthening the government-to-government relationship between the United States and Indian tribes.

HHS has taken its responsibility to comply with Executive Order 13175 very seriously over the past decade, including the initial implementation of a Department-wide policy on tribal consultation and coordination in 1997, and through multiple evaluations and revisions of that policy, most recently in 2008. Many HHS agencies have already developed their own agency-specific consultation policies that complement the Department-wide efforts.

In August 2011, ACF issued its Consultation Policy in partnership with tribes. This policy will help our program offices and program office regional presence to better engage Federally Recognized Indian Tribes in the development or revision of policies, regulations, and proposed legislation that impact American Indians. ACF firmly believes that in order to create a good working relationship with tribes, it starts with requesting and receiving input from the tribes to ensure that we are meeting their needs and to establish a partnership that can carry us into the future.

Testimonies may be submitted no later than February 24, 2012, to: Lillian Sparks, Commissioner, Administration for Native Americans, 370 L'Enfant Promenade SW., Washington, DC 20447. anacommissioner@acf.hhs.gov.

However, this deadline does not preclude anyone from providing testimony at the session and we will, to the extent that time allows, hear your testimony. If you plan on attending to present your testimony, please provide the name, title, and tribe of the individual who will be presenting to Kimberly Romine. Ms. Romine may be reached at Kimberly.romine@acf.hhs.gov or by phone at (202) 205-5603. In order to facilitate the discussion, we ask that presenters provide a brief overview of the testimony and include the specific issues to be addressed at the session. For any tribe unable to attend to present testimony, please be aware that ACF will keep the testimony record open for 30 days after the date of the consultation. After 30 days, ACF will provide written responses to all testimonies received, including those that were presented in person. To register for the consultation, please submit your name, tribe or organization, phone, and email address to Ms. Romine.

In addition to the Tribal Consultation session, ACF will be hosting a half day Tribal Training and Technical Assistance session to provide information about ACF programs, and ACF's Integration and Interoperability Initiative. The Tribal Training and Technical Assistance session will be held the morning of March 5, 2012, in the same room as the Tribal Consultation session.

Dated: January 11, 2012.
George H. Sheldon,
Acting Assistant Secretary for Children and Families.

[FR Doc. 2012-1009 Filed 1-18-12; 8:45 am]

BILLING CODE P